DEPARTMENT OF LABOR

Office of the Secretary

Submission for OMB Review: Comment Request

April 29, 2005.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Ira Mills on 202-693-4122 (this is not a toll-free number) or e-mail: Mills.Ira@dol.gov.

Comments should be sent to Office of Information and Regulatory Affairs, Attn: OMB Desk Officer for ETA, Office of Management and Budget, Room 10235, Washington, DC 20503 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: Internal Fraud Activities.

OMB Number: 1205-0187.

Affected Public: State, local, or tribal Government.

Type of Response: Program Evaluation.

Frequency: Annually.

Number of Respondents: 53.

Annual Responses: 53.

Average Response Time: 3 hours.

Total Annual Burden Hours: 159 hours.

Total Annualized Capital/Startup Costs: $0.

Total Annual Costs (operating/maintaining systems or purchasing services): $0.

Description: The report categorizes the major areas susceptible to internal (employee) fraud and provides actual and “estimated” (predictability or cost avoidance measures) workload. The information from this report has been used and will be used to review Internal Security (IS) operations and obtain information on composite shifting patterns of nationwide activity and effectiveness in the area of internal fraud identification and prevention. The Employment and Training Administration has used this report to assess the overall adequacy of IS procedures in State Workforce Agencies' unemployment insurance program administration.

Ira L. Mills,
Departmental Clearance Officer/Team Leader.

[FR Doc. 05-9057 Filed 5-5-05; 8:45 am]

BILLING CODE 4510-30-P